DEPARTMENT OF TRANSPORTATION

National Highway Traffic Safety Administration

[U.S. DOT Docket No. NHTSA-2015-0037]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before June 29, 2015.

ADDRESSES: You may submit comments identified by DOT Docket ID Number NHTSA-2015-0037 using any of the following methods:

Electronic submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays. Fax: 1-(202) 493-2251.

Instructions: Each submission must include the Agency name and the Docket number for this Notice. Note that all comments received will be posted without change to http://www.regulations.gov including any personal information provided.

FOR FURTHER INFORMATION CONTACT: Dr. J. Stephen Higgins, (202)-366-3976.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following: (i) Whether the proposed collection of information is necessary for the proper performance of the functions of the agency, including whether the information will have practical utility; (ii) The accuracy of the agency's estimate of the burden of the proposed collection of information, including the validity of the methodology and assumptions used; (iii) How to enhance the quality, utility, and clarity of the information to be collected; and (iv) How to minimize the burden of the collection of information on those who are to respond, including the use of appropriate automated, electronic, mechanical, or other technological collection techniques or other forms of information technology, e.g., permitting electronic submission of responses. In compliance with these requirements, NHTSA asks public comment on the following proposed collection of information:

Survey of Law Enforcement Officers/Agencies: Attitudes Towards and Resources for Traffic Safety Enforcement

Type of Request—New information collection requirement.

OMB Clearance Number—None.

Form Number—NHTSA 1186.

Requested Expiration Date of Approval—3 years from date of approval.

Summary of the Collection of Information— NHTSA is interested in the attitudes of Law Enforcement Officers (LEOs) and the resources that Law Enforcement Agencies (LEAs) have for traffic safety enforcement. More specifically NHTSA is interested in past and present LEO viewpoints, agency resources currently being employed, how resources are being utilized, and which additional resources can be implemented to make the enforcement of traffic safety more successful, efficient, and safe for both the Law Enforcement Community as well as the public. NHTSA proposes to collect information from LEOs and LEAs responsible for traffic safety enforcement. Information will be collected through a separate survey completed by line officers and supervisors, as well as structured phone interviews with LEA Chiefs or their designees. Agency administrative data will be gathered through authorized LEA personnel responsible for maintaining such information.

This proposed study is the first step in NHTSA understanding the attitudes and challenges that LEOs and LEAs have with traffic safety enforcement. The agency will gain not only valuable information on the attitudes of Law Enforcement but will also gain valuable guidance in the logistics involved in recruiting and collecting data from agencies and officers as well as the quality of responses and data from the developed instruments for larger nationally representative future studies.

Description of the Need for the Information and Proposed Use of the Information—NHTSA has the responsibility for promoting and implementing effective educational, engineering and enforcement programs with the goal of ending preventable tragedies and reducing economic costs associated with vehicle use and highway travel. In June 2001, a NHTSA report stated that “command emphasis is obviously essential to sustaining traffic law enforcement levels. During times of budget shortfalls or public safety problems, traffic enforcement is one of the first areas to be curtailed. Without the support of senior staff and officials, efforts may decline.” ¹ As a consequence of recent economic challenges, a number of LEAs have merged traffic enforcement with other enforcement divisions in order to reduce costs.

¹ Cyr, E., Jones, R.K., Lacey, J.H., & Wiliszowski, C.H. (2001). A trend analysis of traffic law enforcement in the United States (DOT 809 269). Washington, DC: NHTSA.

This project will document the state of current attitudes and resources and how they have changed in recent years. The result of this project will assist NHTSA in determining what can be done to encourage a more ideal prioritization of traffic safety.

Description of the Likely Respondents (Including Estimated Number, and Proposed Frequency of Response to the Collection of Information)—For the proposed study, we will recruit participant groups from 40 LEAs across the United States. LEOs, supervisors, and staff compiling administrative data will supply data via a web survey. Chiefs will provide information through structured telephone interviews. Approximately 40 semi-structured interviews will be conducted via telephone with either the agency head or his/her designee. An estimated 1,200 law enforcement officers will complete the web-based survey. Approximately 80 supervisor-level officers will complete a separate web-based survey.

Estimate of the Total Annual Reporting and Record Keeping Burden Resulting from the Collection of Information—The web survey for the line officers and supervisors will average approximately 15 minutes including introduction, consent, confidentiality, survey questions, and debriefing. The estimated completion time for each semi-structured interview is 30 minutes per agency head or designee. Individuals providing administrative data have an estimated completion time of 30-45 minutes. The total estimated annual burden if all solicited participants respond is approximately 370 hours. Participants will incur no costs and no record keeping burden from the information collection.

Authority: 44 U.S.C. Section 3506(c)(2)(A).

Issued on: April 23, 2015.
Jeff Michael,
Associate Administrator, Research and Program Development.

[FR Doc. 2015-09990 Filed 4-28-15; 8:45 am]

BILLING CODE 4910-59-P